DEPARTMENT OF LABOR

Employment and Training Administration

[TA-W-80,308; TA-W-80,308A]

Notice of Investigation Regarding Termination of Certification

TA-W-80,308, Roseburg Forest Products, Composite Panel Division, Including On-Site Leased Workers of Robert Half, Orangeburg, SC;

TA-W-80,308A, Roseburg Forest Products, Composite Panel Division, Including On-Site Leased Workers of Robert Half, Russellville, SC.

On its own motion, the Department of Labor (Department) has initiated an investigation regarding the possible termination of certification regarding workers' eligibility to apply for Trade Adjustment Assistance (TAA) applicable to workers and former workers of Roseburg Forest Products, Composite Panel Division, Orangeburg, South Carolina and Russellville, South Carolina (hereafter collectively referred to as the subject firm). The certification was issued on August 12, 2011. The Department's Notice of determination was published in the Federal Register on September 2, 2011 (76 FR 54796).

The certification was based on the Department's findings that aggregate industry imports of articles like or directly competitive with softwood and hardwood lumber products produced by the subject firm had contributed importantly to worker separations at the subject firm.

Subsequent to the issuance of the certification, the Department received new information that the aggregate industry imports analyzed by the Department are not specific to the subset of the industry in which the subject firm is situated.

Based on a careful review of new information and previously submitted information, the Department has reason to believe that the total or partial separations at the subject firm are no longer attributable to the conditions specified in Section 222 of the Trade Act of 1974, as amended, and 29 CFR 90(b). Consequently, the Department is conducting an investigation pursuant to 29 CFR 90.17.

Conclusion

After careful review, I conclude that the evidence is of sufficient weight to justify the investigation regarding the termination of certification regarding workers' eligibility to apply for Trade Adjustment Assistance applicable to workers and former workers of Roseburg Forest Products, Composite Panel Division, Orangeburg, South Carolina (TA-W-80,308) and Roseburg Forest Products, Composite Panel Division, Russellville, South Carolina (TA-W-80,308A).

Signed at Washington, DC, this 17th day of July, 2012.
Del Min Amy Chen,
Certifying Officer, Office of Trade Adjustment Assistance.

[FR Doc. 2012-18421 Filed 7-27-12; 8:45 am]

BILLING CODE 4510-FN-P